DEPARTMENT OF STATE

[Public Notice 5240]

Notice Convening an Accountability Review Board to Examine the Circumstances of the Death of DS Special Agent Stephen Sullivan and Seven Security Contractors in September 2005

Pursuant to section 301 of the Omnibus Diplomatic Security and Antiterrorism Act of 1986, as amended (22 U.S.C. 4831 et seq.), the Secretary of State has determined that recent attacks on two official motorcades in Iraq involved loss of life that was at or related to a U.S. mission abroad. Therefore, the Secretary has convened an Accountability Review Board to examine the facts and the circumstances of the attacks and to report to me such findings and recommendations as it deems appropriate, in keeping with the enclosed mandate. In these two attacks, Diplomatic Security Special Agent Stephen Sullivan was killed along with seven security contractors.

The Secretary has appointed Edward G. Lanpher, a retired U.S. Ambassador, as Chair of the Board. He will be assisted by M. Bart Flaherty, Frederick Mecke, Mike Absher, Laurie Tracy and Executive Secretary to the Board, Robert A. Bradtke. They bring to their deliberations distinguished backgrounds in government service and/or in the private sector.

The Board will submit its conclusions and recommendations to Secretary Rice within 60 days of its first meeting, unless the Chair determines a need for additional time. Appropriate action will be taken and reports submitted to Congress on any recommendations made by the Board.

Anyone with information relevant to the Board's examination of these incidents should contact the Board promptly at (202) 647-5204 or send a fax to the Board at (202) 647-3282.

This notice shall be published in the Federal Register.

Dated: December 1, 2005.
Henrietta H. Fore,
Under Secretary for Management, Department of State.

[FR Doc. E5-7075 Filed 12-7-05; 8:45 am]

BILLING CODE 4710-35-P